DEPARTMENT OF COMMERCE

National Oceanic and Atmospheric Administration

50 CFR Part 229

[Docket No. 001128334-1313-06; I.D. 092101B]

RIN 0648-AN88

Taking of Marine Mammals Incidental to Commercial Fishing Operations; Atlantic Large Whale Take Reduction Plan Regulations

AGENCY: National Marine Fisheries Service (NMFS), National Oceanic and Atmospheric Administration (NOAA), Commerce.

ACTION: Final rule; correction

SUMMARY: NMFS issues a correction to a final rule implementing the Atlantic Large Whale Take Reduction Plan (ALWTRP) that was published in the Federal Register on January 10, 2002. The purpose of this correction is to correct unintended errors from the final rule regarding the dates during which fishermen must comply with requirements for Mid-Atlantic anchored gillnet gear modifications.

DATES: Effective March 28, 2002.

ADDRESSES: Copies of the Environmental Assessment (EA), the Regulatory Impact Review (RIR), and the Final Regulatory Flexibility Analysis (FRFA), are available from the Protected Resources Division, NMFS, 1 Blackburn Drive, Gloucester, MA 01930-2298. Atlantic Large Whale Take Reduction Team (ALWTRT) meeting summaries, progress reports on implementation of the ALWTRP, and a table of the changes to the ALWTRP may be obtained by writing to Diane Borggaard at the address above or Katherine W ang, NMFS/Southeast Region, 9721 Executive Center Dr., St. Petersburg, FL 33702-2432. Copies of the EA, the RIR, and the FRFA can be obtained from the ALWTRP website listed under the Electronic Access portion of this document.

FOR FURTHER INFORMATION CONTACT: Diane Borggaard, NMFS, Northeast Region, 978-281-9145; Katherine Wang, NMFS, Southeast Region, 727-570-5312; or Patricia Lawson, NMFS, Office of Protected Resources, 301-713-2322.

SUPPLEMENTARY INFORMATION:

Electronic Access

Documents concerning the Atlantic Large Whale Take Reduction Plan planning process and the rule that is clarified by this technical amendment can be downloaded from the ALWTRP web site at http://www.nero.nmfs.gov/whaletrp/. Copies of the most recent marine mammal stock assessment reports may be obtained by writing to Richard Merrick, NMFS, 166 Water St., Woods Hole, MA 02543 or can be downloaded from the Internet at http://www.wh.whoi.edu/psb/sar2000.pdf.

The final rule implementing measures to protect right whales from entanglement in certain commercial fishing gears(67 FR 1300, January 10, 2002), incorrectly required year-round gear modifications for Mid-Atlantic anchored gillnet gear. This document clarifies and corrects § 229.32 (d)(7)(ii) by reinserting the time frame of December 1 through March 31 for Mid-Atlantic anchored gillnet gear modification requirements. The December 1 through March 31 time period was the original time period appearing in the regulations prior to issuance of the final rule, and it was the intent of the NMFS and the Atlantic Large Whale Take Reduction Team to maintain this time period.

NMFS did not intend for certain gear modification requirements to extend past March 31. If NMFS were to provide prior notice and an opportunity for comment on this correction, the gear requirements would continue past a date when they are no longer necessary while such proceeding occurred. As such, the Assistant Administrator finds for good cause under 5 U.S.C. (B)(3) that providing prior notice and an opportunity for public comment for this rule would be impracticable and contrary to the public interest. The 30-day delay in effective date is waived under 5 U.S.C. (D)(1), because this final rule is relieving a restriction.

In rule FR Doc.02-273 published January 10, 2002 (67 FR 1300), make the following correction.

§ 229.32 [Corrected]

On page 1314, in the second column, in paragraph (d)(7)(ii) of § 229.32, add the phrase, “From December 1 through March 31,” to the beginning of the sentence.

Dated: March 25, 2002.
Rebecca Lent,
Deputy Assistant Administrator for Regulatory Programs, National Marine Fisheries Service.

[FR Doc. 02-7710 Filed 3-28-02; 2:37 pm]

BILLING CODE 3510-22-S